DEPARTMENT OF HOMELAND SECURITY

[Docket No. DHS-2018-0065]

Notice of the President's National Infrastructure Advisory Council Meeting

AGENCY: National Protection and Programs Directorate, DHS.

ACTION: Announcement of meeting; request for comments.

SUMMARY: The National Protection and Programs Directorate (NPPD) announces a public meeting of the President's National Infrastructure Advisory Council (NIAC). To facilitate public participation, NPPD invites public comment on the agenda items to be considered by the NIAC at the meeting, a draft report on catastrophic power outages, and the associated briefing materials for the report.

DATES:

Meeting Registration: Individual registration to attend the meeting in person must be received no later than 5 p.m. EST on December 5, 2018.

Written Comments: Written comments must be received no later than 12 p.m. EST on December 12, 2018.

Meeting: The meeting will be held on Thursday, December 13, 2018 from 10 a.m.-1 p.m. EST.

ADDRESSES: The NIAC meeting will be held at the Eisenhower Executive Office Building, 1650 Pennsylvania Ave. NW, Washington, DC 20502.

Public Comments: Written comments may be submitted on the issues to be considered by the NIAC as described in the SUPPLEMENTARY INFORMATION section below and the briefing materials for the meeting. The draft report and associated briefing materials will be made publicly available at https://www.dhs.gov/national-infrastructure-advisory-council on Friday, December 7, 2018.

Comments identified by docket number “DHS-2018-0065” may be submitted by any of the following methods:

• Federal eRulemaking Portal: www.regulations.gov. Follow the instructions for submitting written comments.

• Email: NIAC@hq.dhs.gov. Include docket number DHS-2018-0065 in the subject line of the message.

• Fax: 703-235-9707, ATTN: Ginger K. Norris.

• Mail: Ginger K. Norris, Designated Federal Officer, National Infrastructure Advisory Council, National Protection and Programs Directorate, Department of Homeland Security, 245 Murray Lane, Mail Stop 0612, Arlington, VA 20598-0612.

Instructions: All submissions received must include the agency name and docket number for this notice. All written comments received will be posted without alteration at www.regulations.gov, including any personal information provided. For detailed instructions on sending comments and additional information on participating in the upcoming NIAC meeting, see the “PUBLIC PARTICIPATION” heading of the SUPPLEMENTARY INFORMATION section of this document.

Docket: For access to the docket and comments received by the NIAC, go to www.regulations.gov.

FOR FURTHER INFORMATION CONTACT: Ginger K. Norris, 202-441-5885, ginger.norris@hq.dhs.gov.

SUPPLEMENTARY INFORMATION: The NIAC is established under Section 10 of E.O. 13231 issued on October 16, 2001. Notice of this meeting is given under the Federal Advisory Committee Act, 5 U.S.C. Appendix (Pub. L. 92-463). The NIAC shall provide the President, through the Secretary of Homeland Security, with advice on the security and resilience of the Nation's critical infrastructure sectors.

The NIAC will meet in an open meeting on December 13, 2018 to receive remarks from DHS leadership and other senior Federal officials regarding their report on Catastrophic Power Outages. Additionally, the NIAC will deliberate and vote on their final recommendations for this current report as tasked by the National Security Council.

Agenda

I. Opening of Meeting

II. Roll Call of Members

III. Opening Remarks and Introductions

IV. Approval of June 2018 Meeting Minutes

V. Public Comment Catastrophic Power Outage Report

VI. Catastrophic Power Outage Report Deliberations

VII. Discussion of New NIAC Business

VIII. Closing Remarks

IX. Adjournment

Public Participation

Meeting Registration Information

Due to limited seating, requests to attend in person will be accepted and processed in the order in which they are received. Individuals may register to attend the NIAC meeting by sending an email to NIAC@hq.dhs.gov. For those who cannot attend in person, the meeting's proceedings will also be available via webcast at www.whitehouse.gov/live.

Public Comment

While this meeting is open to the public, participation in NIAC deliberations are limited to council members. A public comment period will be held during the meeting from approximately 10:30 a.m.-10:45 a.m. EST. Speakers who wish to comment on the draft catastrophic power outage report must register in advance and can do so by emailing NIAC@hq.dhs.gov no later than Wednesday, December 12, 2018, at 5 p.m. EST. Speakers are requested to limit their comments to three minutes. Please note that the public comment period may end before the time indicated, following the last call for comments.

Information on Services for Individuals With Disabilities

For information on facilities or services for individuals with disabilities or to request special assistance at the meeting, contact NIAC@hq.dhs.gov as soon as possible.

Dated: November 16, 2018.
Ginger K. Norris,
Designated Federal Officer, National Infrastructure Advisory Council, National Protection and Programs Directorate, Department of Homeland Security.

[FR Doc. 2018-25524 Filed 11-21-18; 8:45 am]

BILLING CODE 9110-9P-P